DEPARTMENT OF COMMERCE

National Oceanic and Atmospheric Administration

50 CFR Part 226

[Docket No. 120912447-4999-02]

RIN 0648-BC56

Endangered and Threatened Species; Designation of Critical Habitat for the Arctic Ringed Seal; Extension of Comment Period and Notice of Public Hearing

AGENCY: National Marine Fisheries Service (NMFS), National Oceanic and Atmospheric Administration (NOAA), Commerce.

ACTION: Proposed rule; extension of public comment period; notice of public hearing.

SUMMARY: We, NMFS, published a proposed rule in the Federal Register on December 9, 2014, to designate critical habitat for the threatened Arctic subspecies (Phoca hispida hispida) of the ringed seal (Phoca hispida) under the Endangered Species Act (ESA), and announced that the public comment period would close on March 9, 2015. With this document, we extend the comment period through March 31, 2015, to provide additional time for the public to submit comments. We also announce the specific date and location for a public hearing on the proposal in Bethel, AK.

DATES: The deadline for receipt of comments on the proposed rule published at 79 FR 73010 on December 9, 2014, is extended from March 9, 2015, to March 31, 2015. A public hearing on the proposed rule will be held in Bethel, AK, on February 26, 2015, from 4 p.m. to 7 p.m.

ADDRESSES: The public hearing will be held at the Yupiit Piciryarait Cultural Center, 420 Chief Eddie Hoffman Highway, Bethel, AK 99559.

You may submit written comments on the proposed rule, identified by NOAA-NMFS-2013-0114, by any one of the following methods:

• Electronic Submission: Submit all electronic public comments via the Federal e-Rulemaking Portal. Go to http://www.regulations.gov/#!docketDetail;D=NOAA-NMFS-2013-0114, click the “Comment Now!” icon, complete the required fields, and enter or attach your comments.

• Mail: Address written comments to Jon Kurland, Assistant Regional Administrator for Protected Resources, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on http://www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the proposed rule, list of references and supporting documents, and the draft economic report (i.e., Regulatory Impact Review (RIR)/4(b)(2) Preparatory Assessment/Initial Regulatory Flexibility Act (IRFA) report) prepared for this action are available from http://www.regulations.gov/#!docketDetail;D=NOAA-NMFS-2013-0114 or from the NMFS Alaska Region Web site at http://alaskafisheries.noaa.gov.

FOR FURTHER INFORMATION CONTACT: Tamara Olson, NMFS Alaska Region, (907) 271-2373; Jon Kurland, NMFS Alaska Region, (907) 586-7638; or Marta Nammack, NMFS Office of Protected Resources, (301) 427-8469.

SUPPLEMENTARY INFORMATION:

Background

On December 9, 2014, we published a proposed rule to designate critical habitat for the threatened Arctic ringed seal under the ESA, and opened a public comment period on the proposed rule through March 9, 2015 (79 FR 73010). Subsequently, on January 13, 2015, we announced the specific dates and locations for four public hearings on the proposed rule in Alaska, one each in Nome, Anchorage, Kotzebue, and Barrow (80 FR 1618). At that time, we also announced our intention to hold a fifth public hearing in Bethel, AK. In this document we announce the specific date and location for the public hearing in Bethel. In addition, to provide the public with additional time to submit comments, we also announce in this document an extension of the comment period (see DATES).

Public Hearings

During the public hearings, a brief opening presentation on the proposed rule will be provided before accepting public testimony. Written comments may be submitted at the hearings or via the Federal e-Rulemaking Portal (see ADDRESSES) until the scheduled close of the comment period (see DATES). In the event that attendance at the public hearings is large, the time allotted for oral statements may be limited. Oral and written statements receive equal consideration. There are no limits on the length of written comments submitted to us.

Special Accommodations

These hearings are physically accessible to people with disabilities. Requests for sign language interpretation or other accommodations should be directed to Tamara Olson (see ADDRESSES) as soon as possible, but no later than 7 business days prior to the hearing date.

Authority: 16 U.S.C. 1531 et seq.

Dated: January 26, 2015.
Donna S. Wieting,
Director, Office of Protected Resources, National Marine Fisheries Service.

[FR Doc. 2015-01970 Filed 1-30-15; 8:45 am]

BILLING CODE 3510-22-P